DEPARTMENT OF HEALTH AND HUMAN SERVICES

Centers for Medicare and Medicaid Services

Notice of Grant Award to MedCO Health Solutions, Inc., To Evaluate an Open-Source Project Entitled, “A Comparison of Multiple Methods to Incent Physicians To Adopt Electronic Prescribing Devices''

AGENCY: Centers for Medicare and Medicaid Services (CMS), HHS.

ACTION: Notice of Grant Award.

SUMMARY: The Centers for Medicare and Medicaid Services has awarded a grant entitled, “A Comparison of Multiple Methods To Incent Physicians To Adopt Electronic Prescribing Devices” to Medco Health Solutions, Inc., 100 Parsons Pond Drive, Franklin Lakes, NJ 07417 in response to an unsolicited proposal. The period of performance is August 1, 2005 through July 31, 2006. The purpose of this grant is to fund an initial evaluation of the Southeastern Michigan e-Prescribing Initiative (SEMI) project. Through the use of e-prescribing, this program is intended to reduce the costs associated with the use of prescription drugs, and improve safety for patients, including Medicare beneficiaries, associated with an estimated 6,000 targeted physicians/prescribers in Southeastern Michigan. The project involves the active collaboration of multiple employers, insurance entities and care providers in eight counties in Southeastern Michigan. Partners include the Big Three automakers, Ford, General Motors and Daimler Chrysler; Blue Cross/Blue Shield of Michigan; Henry Ford Health System/Health Alliance Plan; Health Plus of Michigan; SureScripts, RxHub and MedCo. This is a unique project in terms of size, sponsoring organizations, patient base, geographic area, and approach. This project is consistent with CMS’ goals to improve health care quality, patient safety, and the use of electronic prescribing. Funding of this unsolicited proposal will result in a desirable public benefit in that its aim is to provide needed information on the costs and critical success factors associated with the adoption of electronic prescribing, as well as to provide improvements in quality and safety of care delivery.

FOR FURTHER INFORMATION CONTACT: Maria Friedman, Project Officer, Office of e-health Standards and Services, Centers for Medicare and Medicaid Services, 7500 Security Blvd., Stop S2-27-17, Baltimore, MD 21244, (410) 786-6333 or Judy Norris, Grants Officer, Department of Health and Human Services, OOM/AGG/CMS, 7500 Security Blvd., Stop S2-21-15, Baltimore, MD 21244, (410) 786-5130.

Authority: Catalog of Federal Domestic Assistance Program No. 93-779, Center for Medicare and Medicaid Services, Research, Demonstrations and Evaluations; Section 1110 of the Social Security Act.

Dated: August 9, 2005.
Mark B. McClellan,
Administrator, Centers for Medicare and Medicaid Services.

[FR Doc. 05-21731 Filed 10-31-05; 8:45 am]

BILLING CODE 4120-01-P